NATIONAL SCIENCE FOUNDATION

Sunshine Act Meeting

Agency Holding Meeting: National Science Foundation, National Science Board.

Date and Time:

December 14, 2000: 11:30 a.m.-11:45 a.m.; Closed Session

December 14, 2000: 12:30 p.m.-1 p.m.; Closed Session

December 14, 2000: 1 p.m.-5 p.m.; Open Session

Place: The National Science Foundation, Room 1235, 4201 Wilson Boulevard, Arlington, VA 22230.

Status: Part of this meeting will be closed to the public; Part of this meeting will be open to the public.

Matters to be Considered:

Thursday, December 14, 2000

Closed Session (11:30 a.m.-11:45 a.m.)

—Closed Session Minutes, October 2000

—Personnel

—NSB nominees

—NSB Public Service Award

Closed Session (12:30 p.m.-1:00 p.m.)

—Awards and Agreements

—FY 2002 Budget

Open Session (1:00 p.m.-5:00 p.m.)

—Open Session Minutes, October 2000

—Closed Session Items for January 31, February 1, and March 14, 15, 2001

—Chairman's Report

—Director's Report

—Report: NSF Public Affairs Advisory Committee

—COSEPUP Postdoc Study: Bruce Alberts

—NSF & Social Sciences: N. Bradburn

—NSB Report: Allocation of Scientific Resources

—NSB Report: NSF International Activities

—Committee Reports

—Other Business

Marta Cehelsky,
Executive Officer.

[FR Doc. 00-31143 Filed 12-4-00; 10:27 am]

BILLING CODE 7555-01-M.